DEPARTMENT OF TRANSPORTATION

Office of the Secretary

Notice of Applications for Certificates of Public Convenience and Necessity and Foreign Air Carrier Permits Filed Under Subpart B (formerly Subpart Q) during the week ending October 12, 2001.

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1996-2016.

Date Filed: October 11, 2001.

Due Date for Answers, Conforming Applications, or Motion to Modify Scope: November 1, 2001.

Description: Application of Delta Air Lines, Inc., pursuant to 49 U.S.C. Section 41102 and 41108 and Subpart B, requesting renewal of its certificate of public convenience and necessity for Route 740 to engage in scheduled foreign air transportation of persons, property and mail between Atlanta, Georgia, and the coterminal points Sao Paulo and Rio de Janeiro, Brazil.

Docket Number: OST-2001-10834.

Date Filed: October 12, 2001.

Due Date for Answers, Conforming Applications, or Motion to Modify Scope: November 2, 2001.

Description: Application of G5 Executive AG, pursuant to 49 U.S.C. Section 41302 and Subpart B, requesting charter foreign air transportation of persons, property and mail: (1) Between any point or points in Switzerland and any point or points in the United States; (2) between any point or points in the United States and any point or points in a third country or countries, provided that such service constitutes part of a continuous operation, with or without a change of aircraft, that includes service to Switzerland for the purpose of carrying local traffic between Switzerland and the United States; and, (3) between any point or points in the United States and any point or points in third countries in accordance with the provisions of part 212 of the DOT Economic Regulations.

Andrea M. Jenkins,
Federal Register Liaison.

[FR Doc. 01-26918 Filed 10-24-01; 8:45 am]

BILLING CODE 4910-62-P